FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 19, 2023.

A. Federal Reserve Bank of Atlanta (Erien O. Terry, Assistant Vice President) 1000 Peachtree Street NE, Atlanta, Georgia 30309. Comments can also be sent electronically to Applications.Comments@atl.frb.org:

1. Wanda Walker Clay, Cecil Alan Walker, Amy Prather Walker, Trent Alan Walker, and Chelsy Shea Walker, all of Cullman, Alabama; Lance William Walker, Vestavia, Alabama; Terry Neal Walker, Tressa Denise Walker, Tillman Neil Walker, Whitney Walker Gibbs, and certain minor children, all of Baileyton, Alabama; and Timothy Dudley Walker (individually and as custodian for a certain minor child), Kathy Doreen Walker, and Shannon Dudley Walker, all of Joppa, Alabama; as a group acting in concert, to retain voting shares of Altrust Financial Services, Inc., and thereby indirectly retain voting shares of Peoples Bank of Alabama, both of Cullman, Alabama.

B. Federal Reserve Bank of Chicago (Colette A. Fried, Assistant Vice President) 230 South LaSalle Street, Chicago, Illinois 60690-1414. Comments can also be sent electronically to Comments.applications@chi.frb.org:

1. Alyssa T. Kanive, Orono, Minnesota, John N. Kanive, Minnetonka, Minnesota, and Ryan J. Kanive, Orono, Minnesota; to join the Nelson Family Control Group, a group acting in concert, to retain voting shares of First Lacon Corp., and thereby indirectly retain voting shares of The First National Bank of Lacon, both of Lacon, Illinois.

In addition, The Louise N. Kanive Trust, Louise N. Kanive as trustee, both of Orono, Minnesota; to acquire voting shares of First Lacon Corp. and thereby indirectly acquire voting shares of The First National Bank of Lacon.

2. Richard K. Thompson, Sterling Heights, Michigan; Thomas J. Hinsberg, Rochester, Michigan; Robert A. Clemente, West Bloomfield, Michigan; Richard K. Thompson Irrevocable Trust 2022, Troy, Michigan, Thomas J. Hinsberg, Rochester, Michigan, as trustee; OJT Irrevocable Trust, Troy, Michigan, Robert A. Clemente, West Bloomfield, Michigan, as trustee; as a group acting in concert, to retain voting shares of Oxford Bank Corporation and thereby indirectly retain voting shares of Oxford Bank, both of Oxford, Michigan.

Board of Governors of the Federal Reserve System.
Erin Cayce,
Assistant Secretary of the Board.

[FR Doc. 2023-22091 Filed 10-3-23; 8:45 am]

BILLING CODE P